DEPARTMENT OF DEFENSE

Office of the Secretary

Membership of the Performance Review Board

AGENCY: Defense Finance and Accounting Service, DoD.

ACTION: Notice.

SUMMARY: This notice announces the appointment of the members of the Performance Review Board (PRB) of the Defense Finance and Accounting Service (DFAS). The publication of PRB membership is required by 5 U.S.C. 4314(c)(4).

The PRB provides fair and impartial review of Senior Executive Service performance appraisals and makes recommendations regarding performance ratings and performance awards to the Director, DFAS.

EFFECTIVE DATE: August 18, 2003.

FOR FURTHER INFORMATION CONTACT: Jerry Hovey, Human Capital and Staffing Division, Human Resources Directorate, Defense Finance and Accounting Service, Arlington, Virginia, (703) 607-3829.

SUPPLEMENTARY INFORMATION: In accordance with 5 U.S.C. 4314(c)(4), the following executives are appointed to the DFAS PRB: James Cornell (Chairperson), Audrey Davis, Patrick Shine, Sally Smith. Executives listed will serve a one-year renewable term, effective August 18, 2003.

Dated: August 5, 2003.
Patricia L. Toppings,
Alternate OSD Federal Register Liaison Officer, Department of Defense.

[FR Doc. 03-20577 Filed 8-12-03; 8:45 am]

BILLING CODE 5001-08-M